ENVIRONMENTAL PROTECTION AGENCY

40 CFR Part 52

[EPA-R05-OAR-2014-0188; FRL-9926-31-Region 5]

Approval and Promulgation of Air Quality Implementation Plans; Michigan; SO2 Rules

AGENCY: Environmental Protection Agency.

ACTION: Direct final rule.

SUMMARY: The Environmental Protection Agency (EPA) is approving a request by the Michigan Department of Environmental Quality (MDEQ) submitted on February 14, 2014, and supplemented on October 27, 2014, to revise the Michigan state implementation plan (SIP) to incorporate sulfur dioxide (SO2) limits found in Michigan's Air Pollution Control Rules at Chapter 336, Part 4, “Emissions Limitations and Prohibitions—Sulfur Bearing Compounds.” EPA will take no action on the provisions pertaining to the Federal Clean Air Interstate Rule (CAIR) SO2 trading program because CAIR is no longer in effect.

DATES: This direct final rule will be effective June 16, 2015, unless EPA receives adverse comments by May 18, 2015. If adverse comments are received, EPA will publish a timely withdrawal of the direct final rule in the Federal Register informing the public that the rule will not take effect.

ADDRESSES: Submit your comments, identified by Docket ID No. EPA-R05-OAR-2014-0188, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2014-0188. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g. CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Charles Hatten, Environmental Engineer, (312) 886-6031 before visiting the Region 5 office.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. What is the background for this action?

II. What did Michigan submit?

III. What action is EPA taking?

IV. Incorporation by Reference

V. Statutory and Executive Orders Reviews

I. What is the background for this action?

On February 14, 2014, and October 27, 2014, MDEQ submitted a request to incorporate revisions to the Part 4 rule in Michigan's SO2 SIP. Specifically, the revisions to the Part 4 rule includes the removal of obsolete rule language, added definitions, and the consolidation of certain provisions for sources located in Wayne County.

MDEQ published a Notice of Public Information in several newspapers and provided a 30-day public comment period on September 30, 2012, October 1, 2012, and December 2, 2013, respectively. No public comments were received.

On May 31, 1972 (37 FR 10873), EPA approved the Part 4 sulfur limits into the Michigan SIP. The sulfur limits apply statewide, and reduce emissions of SO2 from the following sources: (1) Fuel burning equipment at power plants, (2) fuel burning equipment at a stationary source other than power plants, (3) oil and natural gas producing or transportation facilities and natural gas processing facilities, and (4) sulfuric acid plants. In the same action, EPA approved the Wayne County Air Quality Management Division (WCAQMD) Ordinance—Air Pollution Control (APC) regulation for SO2, “Article VI, Section 6.3, Emissions Limitations and Prohibitions—Sulfur Bearing Compounds” rule, thereby incorporating additional sulfur limits for Wayne County sources into the Michigan SIP. The WCAQMD APC regulation is more stringent than the state's Part 4 rule because it includes requirements to control sulfur bearing compound emissions from sulfuric acid plants, sulfur recovery plants, and hydrogen sulfide facilities. This rule became effective in Wayne County on July 23, 1965.

On May 6, 1980 (45 FR 29790), EPA approved specific portions of the state of Michigan's April 25, 1979, SIP submittal, to satisfy the requirements of part D of the Clean Air Act (CAA) for SO2. In the same action, EPA approved minor revisions to the SO2 regulations in the WCAQMD Ordinance (1969) to adjust sulfur limits for burning fuel oil.

In September 2001, the Wayne County Department of Public Health closed the WCAQMD and ended its air pollution program. As a result of this action, Wayne County's air pollution control ordinance was repealed. Although WCAQMD no longer operates as the air pollution control agency for Wayne County, the SO2 regulations established for sources located in Wayne County remained part of the Federally-approved SIP for Michigan.

II. What did Michigan submit?

MDEQ made revisions to the Part 4 rule with the intent to improve rule clarity. MDEQ has requested that we act on the following revisions to Part 4:

R336.1401a (Rule 401a), Definitions

MDEQ determined that adding definitions for three terms would clarify the language in Part 4. Rule 401a includes definitions for the following terms: (a) Power plant, (b) sulfur recovery plant, and (c) used oil.

The term “power plant” means a single structure devoted to steam or electric generation, or both, and may contain multiple boilers.

A “sulfur recovery plant” is any plant that recovers elemental sulfur from any gas stream.

The term “used oil” means any fuel that is produced from used oil, as defined in R 299.9109(p). To allow incorporation by reference of the definition contained in R 299.9109(p) into the new definition of “used oil,” MDEQ requested in an October 27, 2014, supplement to its submission that EPA approve R 299.9109(p) into the Michigan SIP. Rule R 299.9109(p), in the Hazardous Waste Management regulations of Michigan's Administrative Code, states, “used oil means any oil which has been refined from crude oil, or any synthetic oil, which has been used and which as a result of the use, is contaminated by physical or chemical impurities.” EPA finds that inclusion of the definition of used oil at R 299.9109(p) is consistent with the Federal used oil regulation in 40 CFR part 279 (subpart A, Definitions). Rule 299.9109(p) became effective in Michigan on September 11, 2000.

EPA finds these revisions acceptable for approval into the Michigan SIP.

R336.1401 (Rule 401); “Emission Sulfur Dioxide From Power Plants”

The existing rule 401 addressed SO2 emissions from power plants. Table 41 and Table 42, respectively, contain percent sulfur-in-fuel and equivalent SO2 concentration limits. To streamline the structure of rule 401, MDEQ combined the equivalent SO2 concentration limits in Table 42 with the percent sulfur-in-fuel limits in Table 41, and thus, developed a “new” Table 41—“Fuel and SO2 Emission Limitations for Power Plants.” This change did not revise the existing emission limits for SO2.

Subsections (1a) and (2) through (7) of the existing rule 401 included interim requirements which allowed existing sources an extension of time, until January 1, 1980, for compliance. The state has requested removal of the obsolete rule language.

To improve clarity, MDEQ added a “new” Table 42 into rule 401 applicable to power plants located in Wayne County. MDEQ did not revise any of the sulfur limits applicable to sources in Wayne County in this SIP revision. Lastly, the revisions to rule 401 add requirements for power plants in Wayne County that burn used oil. The requirements for burning used oil at power plants provide a percent sulfur-in-fuel and equivalent SO2 concentration limits. Rule 401 limits the maximum sulfur content for burning used oil to one percent, and the equivalent SO2 concentration limit is 300 parts per million by volume (ppmv). The SO2 concentration limit of 300 ppmv, by comparison, is more stringent than the existing SIP limit of 400 ppmv for power plants in Wayne County burning crude and heavy fuel oils.

EPA finds the revisions acceptable for approval into Michigan's SIP.

R336.1402 (Rule 402), Emissions Limitation of SO2 From Fuel-burning Equipment at Stationary Sources Other Than Power Plants

The existing SIP contains emission limitations and prohibitions on emitting SO2 from fuel-burning equipment at stationary sources other than power plants. MDEQ's submission will move the fuel and SO2 concentration limitations applicable only to fuel-burning equipment at stationary sources located in Wayne County, other than power plants, into rule 402. MDEQ also amended rule 402, adding sub-rules 402(3)—402(5). These sub-rules address the applicability determination, sulfur-in-fuel content and equivalent SO2 concentration limitations, and recordkeeping and reporting requirements for fuel-burning equipment at Wayne County stationary sources other than power plants.

MDEQ did not revise any of the requirements that apply to fuel-burning equipment at stationary sources located in Wayne County, other than power plants, in this SIP revision. EPA finds these revisions acceptable for approval into Michigan's SIP.

R336.1404 (rule 404), Emission Limitation of SO2 and Sulfuric Acid Mist From Sulfuric Acid Plants

The existing SIP addresses emission of sulfur bearing compounds from sulfuric acid plants.

Similar to rules 401 and 402, MDEQ amended rule 404 by incorporating the sulfur limit applicable to sulfuric acid plants located in Wayne County into rule 404. Thus, any sulfuric acid plants located in Wayne County must continue to comply with the SO2 concentration emission limitation of 6.5 pounds of acid produced.

MDEQ did not revise any of the requirements that apply to sulfuric acid plants located in Wayne County in this SIP revision. EPA finds these revisions acceptable for approval into Michigan's SIP.

R336.1405 (Rule 405), R336.1406 (Rule 406), and R336.1407 (Rule 407)

MDEQ amended Part 4 by adding rules 405, 406, and 407 to address emission of sulfur compounds from certain types of facilities or operations at a stationary source located within Wayne County. Rule 405 specifies various sulfur compound emission limits applicable sulfur recovery plants. Rule 406 contains prohibitions on hydrogen sulfide emissions from sources located in Wayne County. Rule 407 contains sulfur compound limits that apply to any process and fuel burning equipment at Wayne County stationary sources not otherwise addressed in Part 4.

MDEQ did not revise any of the sulfur limits that apply to plants located in Wayne County. The revisions to Part 4 centrally locates all the sulfur limits approved in the Michigan SIP in one place. The revisions also expand the applicability of the rule to restrict the emission of SO2 from fuel-burning equipment.

EPA is approving Michigan's Part 4 SIP revision as it relates to Rule 401a, Rule 401, Rule 402, Rule 404, Rule 405, Rule 406, and Rule 407. However, EPA is taking no action, at this time, on MDEQ's revision to R 336.1420 (Rule 420), pertaining to the Federal CAIR SO2 trading program which is no longer in effect. The portion of the SIP revision submission that relates to CAIR is severable, and does not affect the stringency of the remainder of the SIP submission which EPA is approving into the Michigan SIP.

III. What action is EPA taking?

EPA is approving Michigan's February 14, 2014, and October 27, 2014, requests to revise Michigan's SIP revision to incorporate SO2 limits found in Michigan's Air Pollution Control Rules at Chapter 336, Part 4, “Emissions Limitations and Prohibitions—Sulfur Bearing Compounds.” EPA is approving this rule for administrative and SIP strengthening purposes. EPA will take no action on the provisions pertaining to the Federal Clean Air Interstate Rule (CAIR) SO2 trading program because CAIR is no longer in effect. EPA is also approving Michigan rule 299.9109, which defines the term “used oil” into Michigan's SIP.

The revision provides clarity to the Part 4 rule by adding definitions, removing obsolete language, and streamlining the structure of the rule by consolidating into Part 4 provisions relating to sources located in Wayne County. EPA also is approving MDEQ's SIP revision that removes obsolete language referring to the WCAQMD Ordinance (1969) from the Michigan SIP.

It should be noted that EPA is not taking action in this document to address compliance with the 2010 national ambient air quality standard for SO2. SIPs addressing current nonattainment areas in the state for the 2010 SO2 standard are due April 4, 2015, and will be addressed in a separate rulemaking.

We are publishing this action without prior proposal because we view this as a noncontroversial amendment and anticipate no adverse comments. However, in the proposed rules section of this Federal Register publication, we are publishing a separate document that will serve as the proposal to approve the state plan in part if relevant adverse written comments are filed. This rule will be effective June 16, 2015 without further notice unless we receive relevant adverse written comments by May 18, 2015. If we receive such comments, we will withdraw this action before the effective date by publishing a subsequent document that will withdraw the final action. We then will address all public comments in a subsequent final rule based on the proposed action. The EPA will not institute a second comment period. Any parties interested in commenting on this action should do so at this time. Please note that if EPA receives adverse comment on an amendment, paragraph, or section of this rule and if that provision can be severed from the remainder of the rule, EPA may adopt as final those provisions of the rule that are not the subject of an adverse comment. If we do not receive any comments, this action will be effective June 16, 2015.

IV. Incorporation by Reference

In this rule, EPA is finalizing regulatory text that includes incorporation by reference. In accordance with requirements of 1 CFR 51.5, EPA is finalizing the incorporation by reference of the Michigan regulations described in the amendments to 40 CFR part 52 set forth below. The EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 16, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. (See section 307(b)(2)).

List of Subjects in 40 CFR Part 52

Environmental protection, Air pollution control, Incorporation by reference, Intergovernmental relations, Reporting and recordkeeping requirements, Sulfur oxides.

Dated: April 2, 2015.
Susan Hedman,
Regional Administrator, Region 5.

Therefore, 40 CFR part 52 is amended as follows:

PART 52—APPROVAL AND PROMULGATION OF IMPLEMENTATION PLANS

1. The authority citation for part 52 continues to read as follows:

Authority: 42 U.S.C. 7401 et seq.

2. In § 52.1170, in the table in paragraph (c):

a. Add at the beginning of the table the heading “Hazardous Waste Management”, and under the new heading add an entry for “R 299.9109(p)”.

b. Revise the entries under the heading “Part 4. Emission Limitations and Prohibitions—Sulfur-Bearing Compounds”.

c. Revise the entry for “Wayne County Air Pollution Control Regulations”.

d. Remove the entry for “Wayne County variance”.

The revisions and additions read as follows:

§ 52.1170 Identification of plan.

* * * * *

(c) * * *

EPA-Approved Michigan Regulations
Michigan citation | Title | State effective date | EPA Approval date | Comments
Hazardous Waste Management
R 299.9109(p) | Used oil | 9/11/00 | 4/17/15, [insert Federal Register citation]
* * * * * * *
Part 4. Emission Limitations and Prohibitions—Sulfur-Bearing Compounds
R 336.1401 | Emissions of sulfur dioxide from power plants | 3/11/13 | 4/17/15, [insert Federal Register citation] |
R 336.1401a | Definitions | 3/11/13 | 4/17/15, [insert Federal Register citation] |
R 336.1402 | Emission of SO2 from fuel-burning sources other than power plants | 3/11/13 | 4/17/15, [insert Federal Register citation] |
R 336.1403 | Oil- and natural gas-producing or transporting facilities and natural gas-processing facilities; emissions; operation | 3/19/02 | 4/17/15, [insert Federal Register citation] |
R 336.1404 | Emissions of SO2 and sulfuric acid mist from sulfuric acid plants | 3/11/13 | 4/17/15, [insert Federal Register citation] |
R 336.1405 | Emissions from sulfur recovery plants located within Wayne county | 3/11/13 | 4/17/15, [insert Federal Register citation] |
R 336.1406 | Hydrogen sulfide emissions from facilities located within Wayne county | 3/11/13 | 4/17/15, [insert Federal Register citation] |
R 336.1407 | Sulfur compound emissions from sources located within Wayne county and not previously specified | 3/11/13 | 4/17/15, [insert Federal Register citation] |
* * * * * * *
Local Regulations
* * * * * * *
Wayne County Air Pollution Control Regulations | Wayne County Air Pollution Control Regulations | 3/20/69 | 4/17/15, [insert Federal Register citation] | All except for Section 6.3 (A-H)
* * * * * * *

* * * * *

[FR Doc. 2015-08888 Filed 4-16-15; 8:45 am]

BILLING CODE 6560-50-P